SOCIAL SECURITY ADMINISTRATION

Rescission of Social Security Acquiescence Ruling 90-3(4)

AGENCY: Social Security Administration.

ACTION: Notice of Rescission of Social Security Acquiescence Ruling (AR) 90-3(4)—Smith v. Bowen, 837 F.2d 635 (4th Cir. 1987).

SUMMARY: In accordance with 20 CFR 402.35(b)(2), 404.985(e), and 416.1485(e), the Commissioner of Social Security gives notice of the rescission of Social Security AR 90-3(4).

EFFECTIVE DATE: The rescission of this AR will be effective September 25, 2003.

FOR FURTHER INFORMATION CONTACT: Gary Sargent, Office of Acquiescence and Litigation Coordination, Social Security Administration, 6401 Security Boulevard, Baltimore, MD 21235-6401, (410) 965-1695.

SUPPLEMENTARY INFORMATION: An AR explains how we will apply a holding in a decision of a United States Court of Appeals that we determine conflicts with our interpretation of a provision of the Social Security Act (the Act) or regulations when the Government has decided not to seek further review of that decision or is unsuccessful on further review.

As provided by 20 CFR 404.985(e)(4) and 416.1485(e)(4), we may rescind an AR as obsolete if we subsequently clarify, modify or revoke the regulation or ruling that was the subject of the circuit court holding for which the Acquiescence Ruling was issued.

On July 16, 1990, we published AR 90-3(4) (55 FR 28949) to reflect the holding in Smith v. Bowen, 837 F.2d 635 (4th Cir. 1987). In Smith, the United States Court of Appeals for the Fourth Circuit held that, under 20 CFR 404.1566(e), we could not rely on a vocational expert's testimony in determining that an individual can do his or her past relevant work at step four of the sequential evaluation process for determining disability.

In this issue of the Federal Register, we are publishing final rules, that among other things, amend Social Security Regulations No. 4 and 16 (20 CFR 404.1560(b) and 416.960(b)) to clarify that we may use the services of a vocational expert, vocational specialist or other vocational resources at step four of the sequential evaluation process.

Because the changes in the regulations clarify our policy on using vocational expert evidence at step four that was the subject of the Smith AR, we are rescinding AR 90-3(4) concurrently with the effective date of the final rules. The final rules and this notice of rescission restore uniformity to our nationwide system of rules, in accordance with our commitment to the goal of administering our programs through uniform national standards.

(Catalog of Federal Domestic Assistance, Program Nos. 96.001 Social Security—Disability Insurance; 96.002 Social Security—Retirement Insurance; 96.004 Social Security—Survivors Insurance; 96.006—Supplemental Security Income)

Dated: May 22, 2003.
Jo Anne B. Barnhart,
Commissioner of Social Security.

[FR Doc. 03-21611 Filed 8-25-03; 8:45 am]

BILLING CODE 4191-02-P